DEPARTMENT OF TRANSPORTATION

Federal Aviation Administration

Draft Environmental Assessment; Establishment of Restricted Area R-2511 at Naval Air Weapons Station China Lake, CA

AGENCY: Federal Aviation Administration (FAA), DOT; Department of the Navy, DoD.

ACTION: Notice of availability.

SUMMARY: The Department of the Navy (DON) has prepared and filed the Draft Environmental Assessment—Establishment of Restricted Area R-2511 at Naval Air Weapons Station China Lake, California with the United States Environmental Protection Agency (EPA). The Draft Environmental Assessment (Draft EA) evaluates the potential environmental consequences associated with the establishment of a special use airspace (SUA) consisting of one restricted area (RA). The new SUA would connect the existing R-2505 and R-2524 RAs. The new RA would be titled R-2511 and have the same dimensions as the existing Trona Controlled Firing Area (TCFA).

DATES: The 15-day public comment period starts June 17, 2021, and ends July 2, 2021. All public comments are due by July 2, 2021. Due to current federal and state guidance on social distancing in response to COVID-19, the DON will not hold public meetings during the Draft EA public comment period.

ADDRESSES: Submit written comments with the subject line “R-2511 Draft EA—Public Comments” by mail at 901 North Heritage Drive, Suite 204, Ridgecrest, California 93555, email Comments@R2511EA.com, or electronically via the project website at https://www.R2511EA.com.

All comments submitted during the 15-day public comment period will become part of the public record and will be considered in the Final Environmental Assessment (Final EA). All comments must be postmarked or received online by July 2, 2021, for consideration in the Final EA. Federal, state, and local agencies (including their respective officials) and other interested organizations and individuals are encouraged to provide substantive comments on the Draft EA during the 15-day public comment period.

FOR FURTHER INFORMATION CONTACT: Contact: Lonnie D. Covalt, 206-231-3998, Lonnie.d.covalt@faa.gov.

SUPPLEMENTARY INFORMATION: The DON action proponent is NAWCWD, and the FAA is a cooperating agency. Naval Air Weapons Station China Lake (NAWSCL) is located in the western Mojave Desert region of California, approximately 150 miles (241 kilometers) northeast of Los Angeles. NAWSCL is host to NAWCWD and other Department of Defense activities. NAWCWD is the primary tenant command supported at NAWSCL. The Department of the Navy Center of Excellence for Weapons and Armaments has responsibility for RDAT&E for the entire spectrum of naval weapons and armaments (i.e., air, surface, and subsurface).

NAWSCL is separated into two range areas: The North and South ranges, which are overlain by two RAs. R-2505 overlies the North Range, and R-2524 overlies the South Range. NAWCWD, as the NAWSCL ranges' scheduling organization, is the using agency that manages operations conducted within R-2505 and R-2524. The Joshua Control Facility (Joshua Approach) is the controlling agency for R-2505 and R-2524. Access to the SUA is governed by FAA regulations.

Currently, RDAT&E activities between the North and South ranges can be conducted by activating the TCFA. The TCFA is used for free flight weapon systems transiting from areas within R-2505 to target areas within R-2524 and from launch areas within R-2524 to target areas within R-2505. The TCFA occupies altitudes with a floor of 6,000 feet (ft) (1,830 meters [m]) mean sea level (MSL) and a ceiling up to, but not including, Floor Level 200. Ground elevations under the TCFA range from 1,642 to 3,567 ft MSL (500 to 1,087 m MSL), providing a minimum of 2,433 ft (742 m) between the highest ground level point and the 6,000 ft MSL floor of the TCFA. The proposed R-2511 would have the same dimensions as the TFCA.

The DON distributed the Draft EA to federal agencies with which the DON is consulting and other stakeholders. The DON provided public notice in local newspapers. The R-2511 Draft EA is available for electronic viewing or download at https://R2511EA.com. A hard copy or electronic copy (on compact disc) of the Draft EA will be made available upon written request by contacting “R-2511 Establishment EA—Public Comments” at 901 North Heritage Drive, Suite 204, Ridgecrest, California 93555, Comments@R2511EA.com, or the project website at https://www.R2511EA.com.

Lonnie Covalt,
Environmental Protection Specialist, Operations Support Group, Western Service Center.

[FR Doc. 2021-12360 Filed 6-16-21; 8:45 am]

BILLING CODE P